ENVIRONMENTAL PROTECTION AGENCY

[EPA-HQ-OECA-2012-0531; FRL-9939-74-OEI]

Information Collection Request Submitted to OMB for Review and Approval; Comment Request; NSPS for Surface Coating of Large Appliances (Renewal)

AGENCY: Environmental Protection Agency (EPA).

ACTION: Notice.

SUMMARY: The Environmental Protection Agency has submitted an information collection request (ICR), “NSPS for Surface Coating of Large Appliances (40 CFR part 60, subpart SS)” (EPA ICR No. 0659.13, OMB Control No. 2060-0108), to the Office of Management and Budget (OMB) for review and approval in accordance with the Paperwork Reduction Act (44 U.S.C. 3501 et seq.). This is a proposed extension of the ICR, which is currently approved through December 31, 2015. Public comments were previously requested via the Federal Register (80 FR 32116) on June 5, 2015 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before January 22, 2016.

ADDRESSES: Submit your comments, referencing Docket ID Number EPA-HQ-OECA-2012-0531, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: The affected entities are subject to the General Provisions of the NSPS (40 CFR part 60, subpart A) and any changes, or additions, to the Provisions specified at 40 CFR part 60, subpart SS. Owners or operators of the affected facilities must make an initial notification reports, performance tests, periodic reports, and maintain records of the occurrence and duration of any startup, shutdown, or malfunction in the operation of an affected facility, or any period during which the monitoring system is inoperative. Reports are also required semiannually.

Form Numbers: None.

Respondents/affected entities: Existing and new large appliance coating facilities.

Respondent's obligation to respond: Mandatory (40 CFR part 60, subpart SS).

Estimated number of respondents: 72 (total).

Frequency of response: Initially and semiannually.

Total estimated burden: 7,740 hours (per year). Burden is defined at 5 CFR 1320.3(b).

Total estimated cost: $787,000 (per year), which includes $8,400 in annualized capital/startup and/or operation & maintenance costs.

Changes in the Estimates: There is a small increase in the total estimated respondent burden and cost compared with the ICR currently approved by OMB. This increase is due to assuming that all existing respondents will need to spend some time reviewing the rule requirement each year to re-familiarize themselves with it. In previous ICRs, it was assumed that only new respondents would need to read and review the rule requirement. In addition, a portion of the increase in burden cost is due to using updated labor rates from the Bureau of Labor Statistics.

Courtney Kerwin,
Acting Director, Collection Strategies Division.

[FR Doc. 2015-32194 Filed 12-22-15; 8:45 am]

BILLING CODE 6560-50-P